NUCLEAR REGULATORY COMMISSION

[NRC-2012-0277]

Supplemental Environmental Impact Statement for Proposed Dewey-Burdock In-Situ Uranium Recovery Project in Custer and Fall River Counties, SD

AGENCY: Nuclear Regulatory Commission.

ACTION: Availability of draft supplemental environmental impact statement; request for comment.

SUMMARY: The U.S. Nuclear Regulatory Commission (NRC) is issuing for public comment a draft Supplemental Environmental Impact Statement (Draft SEIS) for the Dewey-Burdock In-Situ Uranium Recovery (ISR) Project in Custer and Fall River Counties, South Dakota. The Draft SEIS is Supplement 4 to NUREG-1910, “Generic Environmental Impact Statement for In-Situ Leach Uranium Milling Facilities,” May 2009. By letter dated August 10, 2009, Powertech USA, Inc. (Powertech) submitted an application to the NRC for a new source materials license for the Dewey-Burdock ISR Project. Powertech is proposing to recover uranium from the Dewey-Burdock Project site using an in-situ recovery process.

DATES: The public comment period on the draft SEIS begins with publication of this notice and continues until January 10, 2013. Comments received after this date will be considered if it is practical to do so, but the NRC is able to assure consideration only for comments received on or before this date.

ADDRESSES: You may access information and comment submissions related to this document, which the NRC possesses and are publically available, by searching on http://www.regulations.gov under Docket ID NRC-2012-0277. You may submit comments by any of the following methods:

• Federal Rulemaking Web site: Go to http://www.regulations.gov and search for Docket ID NRC-2012-0277. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Haimanot Yilma, Project Manager, Office of Federal and State Materials and Environmental Management Programs, U.S. Nuclear Regulatory Commission, Washington, DC 20555-0001; telephone: 301-415-8029; email: Haimanot.Yilma@nrc.gov.

SUPPLEMENTARY INFORMATION:

I. Accessing Information and Submitting Comments

A. Accessing Information

Please refer to Docket ID NRC-2012-0277 when contacting the NRC about the availability of information regarding this document. You may access information related to this document by any of the following methods:

• Federal Rulemaking Web site: Go to http://www.regulations.gov and search for Docket ID NRC-2012-0277.

NRC's Agencywide Documents Access and Management System (ADAMS): You may access publicly available documents associated with the Dewey-Burdock ISR Project through the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice is provided below. The “Draft SEIS (NUREG-1910, Supplement 4) is available in ADAMS under Accession Numbers ML12312A039 (Volume 1) and ML12312A040 (Volume 2). NUREG-1910 is available in ADAMS under Accession Numbers ML091480244 (Volume 1) and ML091480188 (Volume 2).

• NRC's PDR: You may examine and purchase copies of public documents at the NRC's PDR, Room O1-F21, One White Flint North, 11555 Rockville Pike, Rockville, Maryland 20852.

B. Submitting Comments

Please include Docket ID NRC-2012-0277 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

Under the NRC's environmental protection regulations in part 51 of Title 10 of the Code of Federal Regulations (10 CFR), which implement the National Environmental Policy Act of 1969 (NEPA), preparation of an Environmental Impact Statement (EIS) or supplement to an EIS (SEIS) is required for issuance of a license to possess and use source material for uranium milling (see 10 CFR 51.20(b)(8)).

In May 2009, the NRC staff issued NUREG-1910, “Generic Environmental Impact Statement for In-Situ Leach Uranium Milling Facilities” (herein referred to as the GEIS). In the GEIS, NRC assessed the potential environmental impacts from construction, operation, aquifer restoration, and decommissioning of an in-situ leach uranium milling facility (also known as an ISR facility) located in four specific geographic regions of the western United States. The proposed Dewey-Burdock ISR Project is located within the Nebraska-South Dakota-Wyoming Uranium Milling Region identified in the GEIS. This Draft SEIS supplements the GEIS and incorporates by reference relevant portions from the GEIS, and uses site-specific information from the applicant's license application and independent sources to fulfill the requirements in 10 CFR 51.20(b)(8).

The Draft SEIS for the proposed Dewey-Burdock Project may also be accessed on the internet at http://www.nrc.gov/reading-rm/doc-collections/nuregs/staff/ by selecting “NUREG-1910” and then “Supplement 4,” or on the NRC's Dewey-Burdock ISR Project Web page at http://www.nrc.gov/materials/uranium-recovery/license-apps/dewey-burdock.html. Additionally, a copy of the Draft SEIS will be available at the following public libraries:

Edgemont Public Library, 412 2nd Avenue, Edgemont, SD 57735.

Rapid City Public Library, 610 Quincy Street, Rapid City, SD 57701-3630.

Custer County Library, 447 Crook Street, Custer, SD 57730.

Weston County Library, 23 West Main Street, Newcastle, WY 82701.

Hot Springs Public Library, 145 N. Chicago Street, Hot Springs, SD 57747.

Oglala Lakota College Library, P.O. Box 310, Kyle, SD 57752.

The Draft SEIS was prepared in response to an application submitted by Powertech on August 10, 2009. The applicant proposes the construction, operation, aquifer restoration, and decommissioning of an ISR facility.

The Draft SEIS was prepared by the NRC and its contractor, the Center for Nuclear Waste Regulatory Analyses, in cooperation with the U.S. Bureau of Land Management (BLM). The NRC has prepared this Draft SEIS in compliance with NEPA and the NRC's regulations for implementing NEPA (10 CFR Part 51).

The proposed Dewey-Burdock ISR Project will be located approximately 21 kilometers (13 miles) north-northwest of Edgemont, South Dakota, in northern Fall River and southern Custer Counties. The proposed facility would encompass approximately 4,282 hectares (10,580 acres), which consists of two contiguous mining units: the Burdock Unit and the Dewey Unit.

The Draft SEIS is being issued as part of the NRC's process to decide whether to issue a license to Powertech pursuant to 10 CFR Part 40. In this Draft SEIS, the NRC staff has assessed the potential environmental impacts from the construction, operation, aquifer restoration, and decommissioning of the proposed Dewey-Burdock Project. The NRC staff assessed the impacts of the proposed action and its alternatives on land use; historical and cultural resources; visual and scenic resources; climatology, meteorology and air quality; geology, minerals and soils; water resources; ecological resources; socioeconomics; environmental justice; noise; traffic and transportation; public and occupational health and safety; and waste management. Additionally, the Draft SEIS analyzes and compares the benefits and costs of the proposed action.

In doing so, the NRC staff evaluated site-specific data and information on the Dewey-Burdock ISR Project to determine if Powertech's proposed activities and the site characteristics were consistent with those evaluated in the GEIS. NRC then determined which relevant sections of, and impact conclusions in, the GEIS could be incorporated by reference. The NRC staff also determined if additional data or analysis was needed to assess the potential environmental impacts for a specific environmental resource area. The NRC documented its assessments and conclusions in the Draft SEIS.

In addition to the action proposed by Powertech, the NRC staff addressed the no-action alternative, as well as alternative wastewater disposal options under the proposed action. All the alternatives were analyzed in detail. The no-action alternative serves as a baseline for comparing the potential environmental impacts of the proposed action.

After weighing the impacts of the proposed action and comparing the alternatives, the NRC staff, in accordance with 10 CFR 51.71(f), sets forth its preliminary recommendation regarding the proposed action. Unless safety issues mandate otherwise, the NRC staff preliminarily recommends that the proposed action be approved (i.e., the NRC should issue a source material license for the proposed Dewey-Burdock ISR Project).

This Draft SEIS is being issued for public comment. The public comment period on the Draft SEIS begins with publication of this notice and continues until January 10, 2013. Written comments should be submitted as described in the ADDRESSES section of this document. The NRC will consider comments received or postmarked after that date to the extent practical.

Dated at Rockville, Maryland, this 8th day of November 2012.
For the Nuclear Regulatory Commission.
Aby Mohseni,
Deputy Director, Environmental Protection and Performance Assessment Directorate, and Environmental Protection, Office of Federal and State Materials.

[FR Doc. 2012-28425 Filed 11-21-12; 11:15 am]

BILLING CODE 7590-01-P